DEPARTMENT OF TRANSPORTATION

Federal Aviation Administration

Approval of Noise Compatibility Program Chandler Municipal Airport, Chandler, AZ

AGENCY: Federal Aviation Administration.

ACTION: Notice.

SUMMARY: The Federal Aviation Administration (FAA) announces its findings on the Noise Compatibility Program submitted by the city of Chandler, Arizona, under the provisions of Title I of the Aviation Safety and Noise Abatement Act of 1979 (Public Law 96-193) and 14 Code of Federal Regulations, Part 150 (FAR Part 150). These findings are made in recognition of the description of Federal and nonfederal responsibilities in Senate Report No. 96-52 (1980). On June 24, 1999 the FAA determined that the noise exposure maps submitted by the city of Chandler, Arizona, under Part 150 were in compliance with applicable requirements. On July 10, 2000 the Associate Administrator for Airports approved the Chandler Municipal Airport Noise Compatibility Program. All sixteen program measures were approved. Three measures were approved as voluntary measures and thirteen measures were approved outright.

EFFECTIVE DATE: The effective date of the FAA's approval of the Chandler Municipal Airport noise compatibility program is July 10, 2000.

FOR FURTHER INFORMATION CONTACT: Brian Armstrong, Airport Planner, Airports Division, AWP-611.1, Federal Aviation Administration, Western-Pacific Region. Mailing address: P.O. Box 92007, Worldway Postal Center, Los Angeles, California 90009-2007. Telephone: (310) 725-3614. Street address: 15000 Aviation Boulevard, Hawthorne, California 90261. Documents reflecting this FAA action may be reviewed at this location.

SUPPLEMENTARY INFORMATION: This notice announces that the FAA has given its overall approval to the Noise Compatibility Program for the Chandler Municipal Airport, effective July 10, 2000.

Under Section 104(a) of the Aviation Safety and Noise Abatement Act of 1979 (hereinafter referred to as “the Act”), an airport operator who has previously submitted a Noise Exposure Map, may submit to the FAA, a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with FAR Part 150 is a local program, not a federal program. The FAA does not substitute its judgment for that of the airport proprietor with respect to which measures should be recommended for action. The FAA's approval or disapproval of FAR Part 150 program recommendations is measured according to the standards expressed in FAR Part 150 of the Act and is limited to the following determinations:

a. The Noise Compatibility Program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under Federal, State, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division office in Hawthorne, California.

The City of Chandler, Arizona, submitted the Noise Exposure Maps, descriptions, and other documentation produced during the noise compatibility planning study conducted from July 1997 through January 2000 to the FAA on February 19, 1999 and May 28, 1999. The Chandler Municipal Airport noise exposure maps were determined by FAA to be in compliance with applicable requirements on June 24, 1999. Notice of this determination was published in the Federal Register on July 8 , 1999.

The Chandler Municipal Airport study contains a proposed Noise Compatibility Program comprised of actions designed for implementation by airport management and adjacent jurisdictions. It was requested that the FAA evaluate and approve this material as a Noise Compatibility Program as described in Section 104(b) of the Act. The FAA began its review of the program on January 13, 2000 and was required by a provision of the Act to approve or disapprove the program within 180 days (other than the use of new flight procedures for noise control). Failure to approve or disapprove such program within the 180-day period shall be deemed to be an approval of such program.

The submitted program contained sixteen proposed actions for noise mitigation on and off the airport. The FAA completed its review and determined that the procedural and substantive requirements of the Act and FAR Part 150 have been satisfied. The Associate Administrator for Airports approved the overall program effective July 10, 2000.

All sixteen of the program elements were approved. The following three measures were approved as voluntary measures: Request aircraft departing on Runway 22L to fly to runway end before turning left; request aircraft departing on Runway 22R to fly to runway end before turning right; and, promote use of AOPA Noise Awareness Steps by light single and twin engine aircraft. The following thirteen measures were approved outright: Relocate heliport to east side of airport; establish Airport Influence Area; use combined 2003 and 2020 noise contours as basis for noise compatibility planning; set 55 DNL as the threshold for promoting airport-compatible development; establish noise compatibility guidelines for the review of development projects within the 55 DNL contour; amend Airport Impact Overlay Zoning Ordinance; enact Airport Impact Overlay Zoning Ordinance (Maricopa County, Town of Gilbert); amend subdivision regulations to require recording of fair disclosure covenants and granting of avigational easement in Airport Impact Overlay District; amend building code to add sound insulation standards supporting Airport Impact Overlay zoning requirements; maintain system of receiving, analyzing, and responding to noise complaints; review Noise Compatibility Plan implementation; Update Noise Exposure Maps and Noise Compatibility Program; and, publish pilot guide.

These determinations are set forth in detail in a Record of Approval endorsed by the Associate Administrator for Airports on July 10, 2000. The Record of Approval, as well as other evaluation materials and the documents comprising the submittal are available for review at the FAA office listed above and at the administrative offices of the city of Chandler, Arizona.

Issued in Hawthorne, California on July 17, 2000.
Herman C. Bliss,
Manager, Airports Division, AWP-600 Western-Pacific Region.

[FR Doc. 00-19529 Filed 8-1-00; 8:45 am]

BILLING CODE 4910-13-M